DEPARTMENT OF ENERGY

Federal Energy Regulatory Commission

[Project No. 4718-039]

Cocheco Falls Associates; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 4718-039.

c. Date Filed: December 29, 2020.

d. Applicant: Cocheco Falls Associates (CFA).

e. Name of Project: Cocheco Falls Dam Project.

f. Location: On the Cocheco River in the city of Dover, Strafford County, New Hampshire. The project does not occupy federal land.

g. Filed Pursuant to: Federal Power Act, 16 U.S.C. 791 (a)-825(r).

h. Applicant Contact: Mr. John Webster, Cocheco Falls Associates, P.O. Box 178, South Berwick, ME 03908; Phone at (207) 384-5334, or email at Hydromagnt@gwi.net.

i. FERC Contact: Amy Chang at (202) 502-8250, or amy.chang@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4718-039.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement the National Environmental Policy Act (NEPA) (see Update to the Regulations Implementing the Procedural Provisions of the National Environmental Policy Act, 85 FR 43304). The Final Rule became effective on and applies to any NEPA process begun after September 14, 2020. Commission staff intends to conduct its NEPA review in accordance with CEQ's new regulations.

l. Project Description: The existing Cocheco Falls Dam Project consists of: (1) A 150-foot-long, 13.5-foot-high stone masonry arch dam that includes the following sections: (a) A 4-foot-long left abutment section; (b) a 140-foot-long spillway section with 24-inch-high flashboards, a 5-foot-wide, 10-foot-high low-level outlet gate, and a crest elevation of 36.25 feet National Geodetic Vertical Datum of 1929 (NGVD29) at the top of the flashboards; and (c) a 6-foot-long right abutment section with a 4-foot-wide, 9-foot-high debris sluice gate; (2) an impoundment with a surface area of 20 acres and a storage capacity of 150 acre-feet at an elevation of 36.25 feet NGVD29; (3) a 64-foot-wide, 10-foot-high intake structure equipped with a trashrack with 1-inch clear bar spacing; (4) an 8.5-foot-diameter, 184-foot-long gated steel penstock that trifurcates into three 5-foot-diameter, 8-foot-long sections, each controlled by a 5-foot-diameter butterfly valve; (5) a 40-foot-long, 40-foot-wide concrete and brick masonry powerhouse containing three 238-kilowatt (kW) vertical Flygt submersible turbine-generator units for a total installed capacity of 714 kW; (6) a 40-foot-long, 40-foot-wide tailrace that discharges into the Cocheco River; (7) a 0.48/34.5-kilovolt (kV) step-up transformer and a 1,000-foot-long, 34.5-kV underground transmission line that connects the project to the local utility distribution system; and (8) appurtenant facilities.

CFA voluntarily operates the project in a run-of-river mode using an automatic pond level control system to regulate turbine operation, such that outflow from the project approximates inflow. The project creates an approximately 200-foot-long bypassed reach of the Cocheco River.

Downstream fish passage is provided by a bypass facility located on the left side of the dam that consist of a 5.6-foot-wide, 7-foot-long fish collection box, a trashrack with 6-inch clear bar spacing, and a 24-inch-diameter PVC fish passage pipe. Upstream fish passage is provided by a Denil fish ladder located on the right side of the dam. The Denil fish ladder is owned and maintained by the New Hampshire Fish and Game Department, and is not a project facility.

Article 25 of the current license, as amended on September 24, 2002, requires a minimum flow release to the bypassed reach of: (1) 20 cubic feet per second (cfs) through the fish ladder from April 15-June 30; (2) 20 cfs through the trash sluiceway from April 15-June 15, to attract anadromous fish to the fish ladder; and (3) 20 cfs through the downstream fish passage facility from April 15 until ice forms on the river. The average annual energy production from 2014 to 2018 was 1,438 megawatt-hours.

CFA proposes to: (1) Continue to operate the project in a run-of-river mode; (2) continue to facilitate upstream and downstream fish passage by providing the minimum flows required by the current license; (3) design and install an upstream eel passage facility within 4 years of the effective date of a subsequent license; and (4) consult with the New Hampshire State Historic Preservation Officer before beginning any land-disturbing activities or alterations to known historic structures within the project boundary.

m. A copy of the application can be viewed on the Commission's website at https://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural Schedule: The application will be processed according to the following schedule. Revisions to the schedule will be made as appropriate.

Milestone | Target date
Deadline for filing interventions, protests, comments, recommendations, preliminary terms and conditions, and preliminary fishway prescriptions | October 2021.
Deadline for filing reply comments | November 2021.

q. Final amendments to the application must be filed with the Commission no later than 30 days from the issuance date of this notice.

Dated: August 12, 2021.
Kimberly D. Bose,
Secretary.

[FR Doc. 2021-17697 Filed 8-17-21; 8:45 am]

BILLING CODE 6717-01-P